DEPARTMENT OF AGRICULTURE

Rural Business-Cooperative Service

Notice of Funds Availability (NOFA) Inviting Applications for the Value-Added Agricultural Product Market Development Grant Program (VADG) (Independent Producers)

AGENCY: Rural Business-Cooperative Service (RBS), USDA.

ACTION: Notice of extension of application deadline and clarification of previous notice.

SUMMARY: The Rural Business-Cooperative Service (RBS) extends the second round (June 27, 2001) deadline for submitting applications for grant funds to help independent producers enter into value-added activities under section 231(a) of the Agriculture Risk Protection Act of 2000 announced in a notice of funds availability (NOFA) published March 6, 2001, at 66 FR 13490. This action is also taken to provide additional information that clarifies the definition of independent producers. This extension will allow eligible entities additional time to submit applications.

DATES: The second round deadline for submitting applications under the notice published March 6, 2001, is extended to 4:00 p.m. eastern time on July 27, 2001. The application deadline is firm as to date and hour. The agency will not consider any application received after the deadline. Applicants intending to mail applications must provide sufficient time to permit delivery on or before the closing deadline date and time. Facsimile (FAX), e-mail, and postage due applications will not be accepted.

ADDRESSES: Send proposals and other required materials to Dr. Thomas H. Stafford, Director, Cooperative Marketing Division, Rural Business-Cooperative Service, USDA, Stop 3252, Room 4204, 1400 Independence Avenue SW, Washington, D.C. 20250-3252.

FOR FURTHER INFORMATION CONTACT: Dr. Thomas H. Stafford, Director, Cooperative Marketing Division, Rural Business-Cooperative Service, USDA, STOP 3252, 1400 Independence Ave., SW, Washington, DC 20250-3252, Telephone (202) 690-0368, Facsimile (202) 690-2723; E-mail: thomas.stafford@usda.gov. You may also obtain information from the RBS website at: www.rurdev.usda.gov/rbs/coops/vadg.htm.

SUPPLEMENTARY INFORMATION:

Background and Discussion of Extension of Application Deadline

RBS published a Notice of Funding Availability (NOFA) on March 6, 2001, at 66 FR 13490 with application deadlines of April 23, 2001, (first round) and June 27, 2001, (second round). Because of a variety of reasons, it took longer than expected to select grant recipients from the first round. As a result, RBS is extending the deadline of the second round to allow first round applicants sufficient time to revise their applications if they wish to do so. Upon reviewing the applications received, RBS has determined that the NOFA was ambiguous regarding the definition of independent producers which is used to determine applicant eligibility. Applicants interpreted this provision in different ways.

To clarify this issue, applicants are hereby advised that independent producers are the producers of raw agricultural products including those products form aquaculture, fish harvesting, and wood lot enterprises. Independent producers can be an individual producer, an association of producers such as a cooperative or LLC or a producer-owned corporation. If the applicant is an association of producers or a producer-owned corporation, it must be 100 percent producer owned and controlled. Controlled is defined as have voting rights in conducting the affairs of the association or corporation. There cannot be any non-producer owners. Independent producers also may not produce the agricultural produce under contract or joint ownership with any organization other than their own.

To ensure that all applicants are treated fairly, applicants who submitted an application under the notice published March 6, 2001, will be provided with a copy of this Notice. Applicants who wish to adjust their applications based on this additional must resubmit their application by the extension deadline published in this Notice. Finally, this extension will allow all eligible entities additional time to submit their application.

Dated: June 26, 2001.
William F. Hagy III,
Acting Administrator, Rural Business-Cooperative Service.

[FR Doc. 01-16536 Filed 6-28-01; 8:45 am]

BILLING CODE 3410-XY-M